DEPARTMENT OF ENERGY

Federal Regulatory Regulation Commission

[Docket No. EL00-108-00]

Tenaska Power Services Co., Complainant v. Southwest Power Pool, Inc., Respondent; Notice of Complaint

September 12, 2000.

Take notice that on September 11, 2000, Tenaska Power Services Co. (TPS), tendered for filing a complaint, pursuant to Rule 206 of Commission's Rules of Practice and Procedure and Section 306 of the Federal Power Act, against the Southwest Power Pool, Inc. (SPP) requesting that the Commission order SPP to honor TPS' long-term firm point-to-point requests for transmission service through the ERCOT East DC tie into Texas. Because that service is set to commence on October 1, 2000, TPS requests fast track processing of its complaint by the Commission pursuant to Section 206(h) of the Commission's Rules of Practice and Procedure.

Copies of the filing were served via facsimile upon SPP and other known interested parties. Questions concerning this Complaint may be directed to counsel for Complainant, Neil L. Levy, Kirkland & Ellis, 655 Fifteenth Street, N.W., Suite 1200, Washington, DC 20005, Phone (202) 879-5116, Fax (202) 879-5200, e-mail Neil_Levy@dc.kirkland.com.

Any person desiring to be heard or to protest filing should file a motion to intervene or protest with the Federal Energy Regulatory Commission, 888 First Street, N.E., Washington, D.C. 20426, in accordance with Rules 211 and 214 of the Commission's Rules and Practice and Procedure (18 CFR 385.211 and 385.214). All such motions or protests must be filed on or before September 18, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before September 18, 2000.

Linwood A. Watson, Jr.,
Acting Secretary.

[FR Doc. 00-23868 Filed 9-15-00; 8:45 am]

BILLING CODE 6717-01-M